DEPARTMENT OF LABOR

Employment and Training Administration

[TA-W-60,372]

International Truck and Engine Warrenville, IL; Notice of Termination of Investigation

Pursuant to Section 221 of the Trade Act of 1974, as amended, an investigation was initiated on November 7, 2006, in response to a worker petition filed by a company official on behalf of workers at International Truck and Engine, Warrenville, Illinois.

The petitioner has requested that the petition be withdrawn. Consequently, the investigation has been terminated.

Dated: November 22, 2006.
Elliott S. Kushner,
Certifying Officer, Division of Trade Adjustment Assistance.

[FR Doc. E6-20835 Filed 12-7-06; 8:45 am]

BILLING CODE 4510-30-P